DEPARTMENT OF HOMELAND SECURITY

Transportation Security Administration

Reports, Forms, and Recordkeeping Requirements: Agency Information Collection Activity Under OMB Review; Airport Access Control Pilot Program (AACPP); Satisfaction and Effectiveness Measurement Data Collection Instruments

AGENCY: Transportation Security Administration (TSA), DHS.

ACTION: Notice.

SUMMARY: This notice announces that TSA has forwarded the Information Collection Request (ICR) abstracted below to the Office of Management and Budget (OMB) for review and clearance of an extension of the currently approved collection under the Paperwork Reduction Act. The ICR describes the nature of the information collection and its expected burden. TSA published a Federal Register notice, with a 60-day comment period soliciting comments, of the following collection of information on October 14, 2004, 69 FR 61036.

DATES: Send your comments by March 24, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2594.

SUPPLEMENTARY INFORMATION:

Transportation Security Administration (TSA)

Title: Airport Access Control Pilot Program (AACPP); Satisfaction and Effectiveness Measurement Data Collection Instruments.

Type of Request: Extension of a currently approved collection.

OMB Control Number: 1652-0020.

Form(s): Enrollment and Satisfaction Surveys.

Affected Public: Select group of volunteer airport users at 22 airports in the United States.

Abstract: The currently approved satisfaction and effectiveness data collection instruments will continue to gather user information about user attitudes, experiences, and acceptance of the use of biometrics and other evolving technologies in controlling access to various restricted areas of airports.

Number of Respondents: 2620.

Estimated Annual Burden Hours: An estimated 780 hours annually.

Estimated Annual Cost Burden: $0.00.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on February 14, 2005.
Lisa Dean,
Privacy Officer.

[FR Doc. 05-3243 Filed 2-18-05; 8:45 am]

BILLING CODE 4910-62-P